OFFICE OF GOVERNMENT ETHICS

Proposed Collection; Comment Request: Proposed Somewhat Revised OGE Form 201 Ethics Act Access Form

AGENCY: Office of Government Ethics (OGE).

ACTION: Notice.

SUMMARY: After this first round notice and public comment period, OGE plans to submit a somewhat revised OGE Form 201, which is used by persons for requesting access to executive branch public financial disclosure reports and other covered records, to the Office of Management and Budget (OMB) for three-year approval under the Paperwork Reduction Act. This modified form will replace the existing one.

DATES: Comments by the agencies and the public on this proposal are invited and should be received by September 3, 2002.

ADDRESSES: Comments should be sent to Mary T. Donovan, Office of Administration and Information Management, Office of Government Ethics, Suite 500, 1201 New York Avenue, NW., Washington, DC 20005-3917. Comments may also be sent electronically to OGE's Internet E-mail address at usoge@oge.gov. For E-mail messages, the subject line should include the following reference—“Paperwork comment on the proposed revised OGE Form 201.”

FOR FURTHER INFORMATION CONTACT: Ms. Donovan at the Office of Government Ethics; telephone: 202-208-8000, ext. 1185; TDD: 202-208-8025; FAX: 202-208-8038. A mark-up copy of the proposed revised OGE Form 201 may be obtained, without charge, by contacting Ms. Donovan.

SUPPLEMENTARY INFORMATION: The Office of Government Ethics is planning to submit, after this notice and comment period (with any modifications that may appear warranted), a proposed somewhat revised OGE Form 201 “Request to Inspect or Receive Copies of SF 278 Executive Branch Personnel Public Financial Disclosure Report or Other Covered Record” for three-year approval by OMB under the Paperwork Reduction Act of 1995 (44 U.S.C. chapter 35). Once finally approved by OMB and adopted by OGE, the modified version of this OGE form will replace the existing version.

The Office of Government Ethics, as the supervising ethics office for the executive branch of the Federal Government under section 109(18)(D) of the Ethics in Government Act (the Ethics Act), 5 U.S.C. appendix 109(18)(D), is planning to modify and update the existing access form. That form, the OGE Form 201 (OMB control # 3209-0002), collects information from, and provides certain information to, persons who seek access to SF 278 reports and other covered records. The form reflects the requirements of the Ethics Act and OGE's implementing regulations that must be met by a person before access can be granted. These requirements relate to information about the identity of the requester, as well as any other person on whose behalf a record is sought, and a notification of prohibited uses of SF 278 reports. See section 105(b) and (c) of the Ethics Act, 5 U.S.C. appendix 105(b) and (c), and 5 CFR 2634.603(c) and (f) of OGE's executive branchwide regulations thereunder. Executive branch departments and agencies are encouraged to utilize the OGE Form 201, but they can, if they so choose, continue to use or develop their own forms as long as they contain all the required information.

The revisions proposed to part I of the OGE Form 201 would create: more space for requesters to enter their name, address, and organization; a request date block and an optional office FAX number block; received date and filled date blocks for agency use to facilitate internal administrative processing; and a type of applicant block to make internal processing easier. The Office of Government Ethics is also proposing a couple of minor stylistic changes to the form title (to pluralize the references to SF 278 reports and other covered records) and to reflect the new 2002 edition date, in addition to updating the OGE paperwork contact official to reflect recent OGE organizational changes.

Also, OGE proposes to add reference in part III of the form, on “other covered records,” to two additional types of records that requesters may obtain by submitting the OGE Form 201. These types of “covered records” are: OGE-approved gifts reporting waiver request cover letters and OGE-approved public reporting waiver request cover letters for certain less than 130-day special Government employees. See sections 102(a)(2)(C) and 101(i) of the Ethics Act, 5 U.S.C. appendix 102(a)(2)(C) and 101(i) and 5 CFR 2634.304(f)(2) and 2634.205(b)(4) of OGE's executive branchwide regulations thereunder.

In addition, OGE proposes to modify the Privacy Act Statement in part II of the form. The Office of Government Ethics is in the process of updating the OGE/GOVT-1 system of records notice (covering Executive Branch Public Financial Disclosure Reports and Other Ethics Program Records, and in which completed OGE Form 201's are maintained). As a result, the Privacy Act Statement, which includes paraphrases of the routine uses, on the proposed modified OGE Form 201 will be revised. As soon as possible, a summary of the anticipated changes relevant to that OGE Form 201 statement will be prepared for inclusion with the mark-up copy of the form as proposed for revision, which is available from OGE upon request.

Once the new language in OGE's forthcoming Privacy Act regulation and systems notice is finalized (anticipated completion date is January 2003), OGE will request permission from OMB to modify the OGE Form 201 (with notice to OMB at that time) without further paperwork clearance even though the new wording will likely take effect after reclearance of the renewed form.

Finally, in part II of the form, OGE notes that it will adjust the referenced civil monetary penalty for prohibited uses of an SF 278 to which access has been gained when it is again adjusted in the next year or two. The penalty, under section 104(a) of the Ethics Act, 5 U.S.C. appendix, section 104(a), will likely be raised from the current $11,000 figure once OGE and the Department of Justice issue their next respective inflation adjustment rulemakings, anticipated in the summer or fall of 2003, in accordance with the 1996 Debt Collection Improvement Act revisions to the 1990 Federal Civil Penalties Inflation Adjustment Act. See 28 U.S.C. 2461 note. The civil monetary penalty was last adjusted in 1999 (see OGE's final rule at 64 FR 47095-47097 (August 30, 1999) and the Justice Department's final rule as codified at 5 CFR 85.3(a)(4) in particular, at 64 FR 47099-47104 on the same date). The future OGE rulemaking will again revise 5 CFR 2634.703 of the executive branch financial disclosure regulation to reflect the adjusted penalty. The Office of Government Ethics will request permission from OMB to revise the OGE Form 201 penalty amount reference once that adjustment takes effect (with notice to OMB at that time) without further paperwork clearance, even though the adjustment occurs after reclearance of the revised form. Moreover, any periodic future adjustments to that civil monetary penalty, pursuant to further rulemakings by OGE and the Justice Department under the inflation adjustment laws, will also be reflected in future editions of the form.

The mark-up copy of the OGE Form 201 as proposed for revision, which is available from OGE (see the FOR FURTHER INFORMATION CONTACT section above), shows all the changes that would be made.

In light of OGE's experience over the past three years (1999-2001), with a total of 667 non-Federal access requests received, the estimate of the average number of access forms expected to be filed annually at OGE by members of the public (primarily by news media, public interest groups and private citizens) is proposed to be adjusted from the current estimate of 172 to 222 (not counting access requests by other Federal agencies or Federal employees). The estimated average amount of time to complete the form, including review of the instructions, remains at ten minutes. Thus, the overall estimated annual public burden for the OGE Form 201 for forms filed at OGE will increase from 29 hours in the current OMB paperwork inventory listing (172 forms X 10 minutes per form—number rounded off) to 37 hours (222 forms X 10 minutes per form—number rounded off). For the entire executive branch, OGE estimates that the overall usage of the form each year will average some 1,600.

The Office of Government Ethics expects that the revised form should be ready, after OMB clearance, for dissemination to executive branch departments and agencies in the fall of 2002. The OGE Form 201 as revised will continue to be made available free-of-charge as a downloadable Portable Document Format (PDF) file to the public as well as departments and agencies on OGE's Internet Web site (Uniform Resource Locator address: http://www.usoge.gov). The Office of Government Ethics will continue to permit departments and agencies to use the copy of the OGE Form 201 available on OGE's Web site or to develop and utilize their own, electronic versions of the OGE form, provided that they precisely duplicate the original to the extent possible. Agencies can also develop their own access forms, provided all the information required by the Ethics Act and OGE regulations is placed on such forms, along with the appropriate Privacy Act and paperwork notices with any attendant clearances being obtained by the agencies therefor.

For now, OGE itself accepts filing of a completed OGE Form 201 by mail, FAX, or in person, but does not permit E-mail or Internet online transmission. Similarly, requested copies of reports or other covered records are supplied by OGE as hard (paper) copies.

Public comment is invited on each aspect of the proposed somewhat revised OGE Form 201 as set forth in this notice, including specifically views on the need for and practical utility of this proposed modified collection of information, the accuracy of OGE's burden estimate, the enhancement of quality, utility and clarity of the information collected, and the minimization of burden (including the use of information technology).

Comments received in response to this notice will be summarized for, and may be included with, the OGE request for OMB paperwork approval for this somewhat revised information collection. The comments will also become a matter of public record.

Approved: June 12, 2002.
Amy L. Comstock,
Director, Office of Government Ethics.

[FR Doc. 02-15389 Filed 6-18-02; 8:45 am]

BILLING CODE 6345-01-P